DEPARTMENT OF THE INTERIOR

Bureau of Land Management

[LLUTY01000.L16100000.DP0000]

Notice of Intent To Prepare a Master Leasing Plan, Amendments to the Resource Management Plans for the Moab and Monticello Field Offices, and an Associated Environmental Impact Statement

AGENCY: Bureau of Land Management, Interior.

ACTION: Notice of Intent.

SUMMARY: In compliance with the National Environmental Policy Act of 1969, as amended, and the Federal Land Policy and Management Act of 1976 (FLPMA), as amended, the Bureau of Land Management (BLM), Moab and Monticello Field Offices, Utah, intend to prepare a Master Leasing Plan (MLP), amendments to the 2008 Moab and Monticello Resource Management Plans (RMPs), and a single environmental impact statement (EIS) to consider leasing for oil and gas and potash on about 783,000 acres of public lands. By this notice, the BLM is announcing the beginning of the scoping process to solicit public comments and identify issues.

DATES: This notice initiates the public scoping process for the MLP/plan amendments and associated EIS. Comments on issues may be submitted in writing prior to the end of the scoping period which is 60 days after the date of publication of this notice in the Federal Register. During the scoping period, it is anticipated that scoping meetings will be held in Moab, Monticello, and Salt Lake City, Utah. The date(s) and locations(s) of the scoping meetings will be announced at least 15 days in advance through local media, newspapers, and the BLM Web site at: http://www.blm.gov/21jd. Additional opportunities for public participation will be provided upon publication of the Draft EIS.

ADDRESSES: You may submit comments related to the Master Leasing Plan and plan amendments by any of the following methods:

• Email: BLM_UT_Comments_2@blm.gov

• Mail: BLM, Moab Field Office, 82 East Dogwood, Moab, Utah 84532, Attention: Brent Northrup

• Fax: (435) 259-2106

FOR FURTHER INFORMATION CONTACT: For further information and/or to have your name added to our mailing list, contact Brent Northrup, Project Manager, BLM Moab Field Office, 82 East Dogwood, Moab, UT 84532, telephone (435) 259-2151 or email Brent_Northrup@blm.gov. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The BLM will prepare a MLP in accordance with the BLM's Washington Office Instruction Memorandum No. 2010-117. The MLP process will provide additional planning and analysis for areas prior to new leasing of oil, gas, and potash. The MLP will enable the Moab and Monticello Field Offices to (1) evaluate in-field considerations, such as optimal parcel configurations and potential development scenarios; (2) identify and address potential resource conflicts and environmental impacts from development; (3) develop mitigation strategies; and (4) consider a range of new constraints, including prohibiting surface occupancy or closing certain areas to leasing. The MLP process could result in new leasing stipulations and development constraints which would require amendments to the Moab and Monticello RMPs completed in 2008. The EIS will analyze likely mineral development scenarios and land use plan alternatives with varying mitigation levels for leasing.

The planning area covers about 783,000 acres in east-central Utah, encompassing west-central Grand County south of Interstate 70 and a portion of northern San Juan County. The western boundary is along the Green River and the northeastern edge of Canyonlands National Park. To the south of Moab, the boundary includes the area between Canyonlands National Park and U.S. Highway 191. The planning area encompasses a mix of land uses including a variety of recreation uses, livestock grazing, potash production, and oil and gas development. Interest in oil, gas, and potash exploration and development is high in the area, as evidenced by the recent submission of over 170 potash prospecting permit applications encompassing over 350,000 acres and expressions of interest to lease oil and gas encompassing over 120,000 acres within the planning area.

Planning issues can generally be stated as resource management issues and opportunities that the BLM needs to address to ensure it is fulfilling its multiple use resource management mission. The potential decisions in any proposed land use plan amendments could affect numerous other resources. The preliminary resource issues currently identified by a BLM interdisciplinary team include the following: air quality and climate change, cultural resources, lands and realty, paleontological resources, recreation, riparian resources, socioeconomics, soil and water, special status species, special designations (National Scenic and Historic Trails), vegetation, visual resources, wildlife and fisheries, and wilderness characteristics. Planning criteria are the constraints or ground rules that guide and direct the development of the land use plan amendments and determine how the planning team approaches development of alternatives and ultimately, selection of a Preferred Alternative. Planning criteria ensure that plans are tailored to the identified issues and ensure that unnecessary data collection and analyses are avoided. Preliminary planning criteria include: (1) Any plan amendments will focus on mineral leasing decisions only, (2) any plan amendments will recognize valid existing rights, (3) lands addressed in plan amendments will be public lands (including split estate lands) managed by the BLM, (4) the BLM will use a collaborative and multi-jurisdictional approach, where possible, to jointly determine how mineral leasing will be managed, (5) as described by law and policy, the BLM will strive to ensure that its management decisions are as consistent as possible with other planning jurisdictions within the planning area boundaries, (6) development scenarios will be prepared for oil and gas and potash based on historical, existing and projected levels, (7) management decisions will consider a range of alternatives that focus on development scenarios and varying mitigation levels based on the relative values of resources, (8) the socioeconomic impacts of the alternatives will be addressed, (9) the BLM will use current scientific information, research, technologies, and results of inventory, monitoring, and coordination to determine appropriate decisions for mineral leasing, and (10) the BLM will coordinate with Native American Tribal Governments to identify sites, areas, and objects important to their cultural and religious heritage within the planning area.

Note: Planning issues and criteria outlined above are preliminary at this stage and will likely be modified as the public becomes more fully involved.

Federal, state, local, and tribal agencies, along with other stakeholders that may be interested in or affected by the BLM's decision on this project are invited to participate in the scoping process and, if eligible, may request or be requested by the BLM to participate as a cooperating agency.

You may submit comments in writing on issues and planning criteria to the BLM at any public scoping meeting, or you may submit them to the BLM using one of the methods listed in the ADDRESSES section above. To be most helpful, you should submit comments before the end of the scoping period. The BLM will provide the public with the results of scoping through our Web site and by newsletter.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2(c).

Shelley J. Smith,
Actg. Associate State Director.

[FR Doc. 2012-5177 Filed 3-2-12; 8:45 am]

BILLING CODE 4310-DQ-P